ENVIRONMENTAL PROTECTION AGENCY

40 CFR Part 52

[PA-4154; FRL-7083-4]

Approval and Promulgation of Air Quality Implementation Plans; Pennsylvania; NOX RACT Determinations for Two Individual Sources in the Pittsburgh-Beaver Valley Area

AGENCY: Environmental Protection Agency (EPA).

ACTION: Final rule.

SUMMARY: The Environmental Protection Agency (EPA) is approving State Implementation Plan (SIP) revisions submitted by the Commonwealth of Pennsylvania (Pennsylvania). The revisions impose reasonably available control technology (RACT) on two major sources of nitrogen oxides (NOX) located in the Pittsburgh-Beaver Valley area (the Pittsburgh area). EPA is approving these revisions to establish RACT requirements in the SIP in accordance with the Clean Air Act.

EFFECTIVE DATE: This final rule is effective on November 5, 2001.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality, P.O. Box 8468, 400 Market Street, Harrisburg, Pennsylvania 17105.

FOR FURTHER INFORMATION CONTACT: Marcia Spink (215) 814-2104 or by e-mail at spink.marcia@epa.gov.

SUPPLEMENTARY INFORMATION:

I. Background

On April 18, 2000, EPA published a direct final rule approving RACT determinations submitted by the Pennsylvania Department of Environmental Protection (PADEP) for twenty-six major sources of NOX and/or volatile organic compounds (VOC) and a companion notice of proposed rulemaking (65 FR 20788). We received adverse comments on the direct final rule and a request for an extension of the comment period. We had indicated in our April 18, 2001 direct final rulemaking that if we received adverse comments, we would withdraw the direct final rule and address all public comments in a subsequent final rule based on the proposed rule (65 FR 20788). On June 19, 2000 (65 FR 38168), EPA published a withdrawal notice in the Federal Register informing the public that the direct final rule did not take effect. On June 19, 2000 (65 FR 38169), we also published a notice providing an extension of the comment period and making corrections to our original proposed rule. This final rule pertains to two of the twenty-six sources which were included in the April 18, 2001 rulemaking, namely Allegheny Ludlum Steel Corporations's Vandergrift Plant located in Westmoreland County and INDSPEC Chemical Corporation's Petrolia Plant located in Butler County. The remaining twenty-four sources will be the subject of separate rulemakings.

II. Summary of the SIP Revisions

On March 21, 1996, December 7, 1998 and April 9, 1999, the PADEP submitted NOX RACT determinations for Allegheny Ludlum Steel Corporations's Vandergrift Plant located in Westmoreland County and INDSPEC Chemical Corporation's Petrolia Plant located in Butler County to EPA as SIP revisions. On April 18, 2001 (65 FR 20788), EPA proposed to approve these SIP revisions. Brief descriptions of the RACT requirements imposed for these sources are provided at II. A and B.

A. Allegheny Ludlum Steel Corporations's Vandergrift Plant

This is a major NOX facility as defined in 25 Pa. Code Chapter 121, section 121.1 of Pennsylvania's SIP approved regulations. Therefore the facility is subject to the RACT requirements of Chapter 129, section 129.91 of Pennsylvania's SIP approved regulations. The facility submitted a RACT proposal in accordance with the SIP-approved requirements section 129.92. Boiler's #1 and #2 are combustion units with a rated input equal to or greater than 20MMBtu/hr but less than 50MMBtu/hr. Allegheny Ludlum elected to comply with the SIP-approved presumptive RACT requirements applicable to such size boilers found at section 129.93(b)(2). The PADEP cited to these requirements in Condition 4 of RACT Operating Permit No. 65-000-137 issued to Allegheny Ludlum Steel Corporations's Vandergrift Plant. The two remaining sources at the facility that require a RACT analysis are the No. 90 line anneal furnace used to anneal stresses introduced during rolling operations, and the associated pickling line process where steel is submerged in a an acid bath which dissolves and removes oxidized metal and other materials from the surface of the steel. Brief descriptions of the RACT requirements imposed by PADEP are provide below. The RACT plan proposal submitted by Allegheny County Ludlum on March 17, 1994 and PADEP's Review of the RACT Application, dated June 22, 1995, detail the technical and economic analyses performed to rank control technology options in accordance with 25 Pa Code 129.92. Those documents, among others generated by PADEP, are included in the docket for this rulemaking.

The 90 line furnace is capable of annealing steel at temperatures ranging from 1350 degrees to 2200 degree F. Control technology options were analyzed and ranked by Allegheny Ludlum for the 90 line furnace including: (1) Selective catalytic reduction (SCR) and Low NOX Burners (LNB); (2) SCR only; (3) LNB and flue gas recirculation (FGR); and FGR alone. The costs per ton of NOX removed calculated to $9285/ton for SCR and LNB; $8958/ton for SCR; $9160/ton for LNB and FGR; and $3349/ton for FGR. The pickling line uses a nitric acid/hydrofluoric acid bath and is currently employing absorption and chemical reaction technology. Several control options were evaluated for this source. An oxidation/absorption system with chemical reaction and 85% control efficiency was evaluated and found to have a total cost effectiveness of $4807/ton reduced. A hydrogen peroxide injection system was also investigated. This system was found to have a 75% control efficiency at a cost effectiveness of $3767/ton. Both SCR an selective non-catalytic reduction (SNCR) were evaluated. These were deemed to be technologically infeasible due to the low operating temperature of the needed scrubber. Therefore, the PADEP concluded no additional controls, beyond those already employed, were required as RACT for the 90 anneal line furnace and the pickling line. The PADEP did impose maximum annual NOX emissions from each unit to be met over every consecutive 12 month period in RACT Permit No. 65-000-137. The No. 90 A& P line furnace is limited to 25.9 tons/year, the No. 90 A&P line scrubber to 103.0 tons/year, Boilers #1 and #2 to 14.3 tons/year each; and the Roller Hearth Line to 10.6 tons/year. RACT Permit No. 65-000-137 also requires that Allegheny Ludlum comply with the record keeping requirements of SIP-approved 25 Pa Code Chapter 129, section 129.95.

B. INDSPEC Chemical Corporation's Petrolia Plant

On December 7, 1995, PADEP issued a RACT approval, Permit Number: PA 10-021, to INDSPEC Chemical Corporation's Petrolia Plant located in Butler County. On October 19, 1998, PADEP issued an amended RACT approval to this facility retaining the same Permit Number: PA 10-021. The permit was issued to INDSPEC Chemical Corporation (INDSPEC) for achieving compliance with the SIP-approved provisions of 25 Pa Code Section 129.91 through 129.95. The facility and PADEP submitted extensive RACT analyses in accordance with the SIP-approved provisions of 129.91 and 129.92. These analyses are included in docket for this rulemaking. Boiler #3 has been removed from service completely. The PADEP has determined that were it to have remained in service after May 31, 1995, RACT would have been that it be operated and maintained in accordance with manufacturer's recommendations and with good air pollution control practices. For boilers #4, #5, and #7 which by design or by de-rates imposed in enforceable permit conditions, INDSPEC has elected to comply with the SIP-approved presumptive RACT requirements of 129.93. The PADEP has determined that RACT for Boiler #8 is that it be operated and maintained in accordance with manufacturer's recommendations and with good air pollution control practices. Boiler #9 had been permitted under 25 Pa Code Chapter 127, and had installed low NOX burners as Best Available Technology (BAT). BAT is the control technology requirement imposed on new sources and modifications not otherwise subject to Best Available Control Technology (BACT) or Lowest Achievable Emission Rate (LAER) under the SIP-approved new source review program. The PADEP reaffirmed the 1993 BAT requirement as RACT. In addition, the PADEP has imposed the following emission NOX emission limitations under condition 8 of Permit No. PA 10-021:

Boiler #3—0.51 lbs/MMBtu, 25.5 lbs/hr, 111.7 tons/year

Boiler #7—0.14 lbs/MMBtu, 8.4 lbs/hr, 15.6 tons/year

Boiler #8—0.51 lbs/MMBtu, 60.2 lbs/hr, 263.6 tons/year

Boiler #9—0.11 lbs/MMBtu, 22 lbs/hr, 96.4 tons/yr

The ton/yr limits must be met on a 12 month rolling basis. Boiler #7 shall not burn more than 223 mmcf of natural gas per year (also based on a 12 month rolling total). INDSPEC must install, operate and maintain continuous emission monitoring systems in accordance with 25 Pa Code Chapter 139 and 40 CFR Part 60, Subpart Db. INDSPEC must monitor and record the amount of steam produced, the pressure at which it is produced, the boiler efficiency and the heat input to boilers #4 and #5 to insure compliance with their de-rated heat input capacity of 49.5 MMBtu/hr.

As RACT for VOC, the PADEP has imposed condition 6 in Permit No. PA 10-021 to require that INDSPEC install combination flame arrester conservation vents on its four ether feed tanks, T-869, T-870, T-1085, and T-1086. Condition 7 of Permit No. PA 10-021 requires that the VOC emissions from these tanks shall be reduced by 96.5%.

Permit No. PA 10-021 also requires that stack tests be performed in accordance with Chapter 139 to of the approved-SIP regulations to demonstrate compliance with the emission limits imposed in condition 7 (for the 96.5% percent reduction in VOCs) and condition 8 (for the #7 boiler). The combustion units rated greater than 100 MMBtu shall be stack tested to comply with the requirements of 129.91. Permit No. PA 10-021 also requires INDSPEC to comply with the record keeping requirements of 129.95.

On April 18, 2000 EPA proposed to approve these RACT determinations (65 FR 20788) because the PADEP established and imposed these RACT requirements in accordance with the criteria set forth in the SIP-approved RACT regulations applicable to these sources. The PADEP has also imposed record-keeping, monitoring, and testing requirements on these sources sufficient to determine compliance with the applicable RACT determinations.

II. Summary of Public Comments Received and EPA's Responses

EPA received comments on its April 18, 2000 proposal to approve Pennsylvania's RACT SIP submittals for twenty six—six sources from Citizens for Pennsylvania's Future (PennFuture), and from a concerned citizen. The comments that are germane to the RACT determinations for Allegheny Ludlum Steel Corporations's Vandergrift Plant and INDSPEC Chemical Corporation's Petrolia Plant are summarized below. EPA's responses are provided after each comment.

A. Comment: PennFuture comments that EPA should require that each RACT submittal include “effective and enforceable numerical emission limits” as a condition for approval. Additionally, PennFuture requests that EPA only approve limits that are no higher than the best emission rate actually achieved after the application of RACT, adjusted only to reflect legally and technically valid averaging times and deviations. PennFuture contends that such an approach will ensure maximum environmental benefits and minimize the opportunity for sources to generate spurious emission reduction credits (ERCs) against limits that exceed emission levels actually achieved following the application of RACT. Lastly PennFuture comments that EPA should describe the RACT determinations in its rulemaking notices published in the Federal Register rather than simply citing to technical support documents and other materials available in docket of the rulemaking.

Response: While RACT, as defined for an individual source or source category, often does specify an emission rate, such is not always the case. EPA has issued Control Technique Guidelines (CTGs) which states are to use as guidance in development of their RACT determinations/rules for certain sources or source categories. Not every CTG issued by EPA includes an emission rate. There are several examples of CTGs issued by EPA wherein equipment standards and/or work practice standards alone are provided as RACT guidance for all or part of the processes covered. Such examples include the CTGs issued for Bulk gasoline plants, Gasoline service stations—Stage I, Petroleum Storage in Fixed-roof tanks, Petroleum refinery processes, Solvent metal cleaning, Pharmaceutical products, External Floating roof tanks and Synthetic Organic Chemical Manufacturing (SOCMI)/polymer manufacturing. (See http://www.epa.gov/ttn/catc/dir1/ctg.txt ). That said, the RACT determinations made by PADEP for Allegheny Ludlum Steel Corporations's Vandergrift Plant and INDSPEC Chemical Corporation's Petrolia Plant include both SIP-approved presumptive RACT requirements and numerical emission rates.

With regard to the criteria EPA uses to determine whether to approve or disapprove RACT SIP revisions submitted by PADEP pursuant to 25 Pa Code Chapter 129.91-129.95, we look to the provisions of those SIP-approved regulations and to the requirements of the Clean Air Act and relevant EPA guidance. On March 23, 1998 (63 FR 13789), EPA granted conditional limited approval of Pennsylvania's generic RACT regulations, 25 PA Code Chapters 121 and 129, thereby approving the definitions, provisions and procedures contained within those regulations under which the Commonwealth would require and impose RACT. Subsection 129.91, Control of major sources of NOX and VOCs, requires subject facilities to submit a RACT plan proposal to both the Pennsylvania Department of Environmental Protection (DEP) and to EPA Region III by July 15, 1994 in accordance with subsection 129.92, entitled, RACT proposal requirements. Under subsection 129.92, that proposal is to include the following information: (1) A list each subject source at the facility; (2) The size or capacity of each affected source, and the types of fuel combusted, and the types and amounts of materials processed or produced at each source; (3) A physical description of each source and its operating characteristics; (4) Estimates of potential and actual emissions from each affected source with supporting documentation; (5) A RACT analysis which meets the requirements of subsection 129.92 (b), including technical and economic support documentation for each affected source; (6) A schedule for implementation as expeditiously as practicable but not later than May 15, 1995; (7) The testing, monitoring, recordkeeping and reporting procedures proposed to demonstrate compliance with RACT; and (8) any additional information requested by the DEP necessary to evaluate the RACT proposal. Under subsection 129.91, the DEP will approve, deny or modify each RACT proposal, and submit each RACT determination to EPA for approval as a SIP revision. The conditional nature of EPA's March 23, 1998 conditional limited approval did not impose any conditions pertaining to the regulation's procedures for the submittal of RACT plans and analyses by subject sources and approval of case-by case RACT determinations by the DEP. Rather, EPA stated that “* * *RACT rules may not merely be procedural rules (emphasis added) that require the source and the State to later agree to the appropriate level of control; rather the rules must identify the appropriate level of control for source categories or individual sources.”

EPA reviews the case-by-case RACT plan approvals and/or permits submitted as individual SIP revisions by Commonwealth to verify and determine if they are consistent with the RACT requirements of the Act and any relevant EPA guidance. EPA first reviews a SIP submission to ensure that the source and the Commonwealth followed the SIP-approved generic rule when applying for and imposing RACT, respectively. Then EPA performs a thorough review of the technical and economic analyses conducted by the source and the state. If EPA believes additional information may further support or would undercut the RACT analyses submitted by the state, then we may add additional EPA-generated analyses to the record. Thus, EPA does not believe it would be appropriate to only approve limits that are no higher than the best emission rate actually achieved after the application of RACT, adjusted only to reflect legally and technically valid averaging times and deviations.

EPA does note that an approved RACT emission limitation alone does not constitute the baseline against which ERCs may be generated. There are many other factors that must be considered in the calculation of eligible ERCs under Pennsylvania's approved SIP regulations governing the creation ERCs. Moreover, the scenario posed in PennFuture's comment would not create eligible ERC's under the Commonwealth approved SIP regulations. Under the Commonwealth's regulations pertaining to ERCs, found at 25 Pa. Code Chapter 127, sections 127.206 through 127.210 (approved by the EPA at 62 FR 64722 on December 9, 1997), sources cannot obtain ERCs if they find that their RACT controls result in lower emissions than allowed by their specified RACT limits.

While EPA believes that Federal rulemaking procedures allow for the format and procedures used in its April 18, 2000 rulemaking notices, we have nonetheless described the RACT determinations made for Allegheny Ludlum Steel Corporations's Vandergrift Plant located in Westmoreland County and INDSPEC Chemical Corporation's Petrolia Plant in this document.

B. Comment: A private citizen expresses concern that the RACT requirements for INDSPEC Chemical Corporation's #8 and #3 boilers might not be sufficiently stringent. He believes that at if this was the case, the Company might be able to claim excessive amounts of emission reduction credits (ERCs). With respect to Boiler #8, the citizen was concerned that the Commonwealth had established a RACT emissions limit based upon this boiler operating as a coal-fired unit and not as a gas-fired unit. He points out that the Company had, in 1994, converted Boiler #8 to gas-firing, resulting in significant reductions in NOX emissions. In particular, he questions the conclusion that the cost effectiveness of the conversion was $5,500 per ton of NOX removed. He contends that INDSPEC's motivations for the conversion from coal to gas may have been driven based on economic considerations citing that perhaps the boiler was too costly to maintain on coal, or perhaps the company was faced with the prospect of adding other emissions controls. He contends that by converting to gas, the company derives savings on personnel, maintenance on fuel handling and burning equipment, wear and tear on the boiler and maintenance on air pollution control equipment. With respect to Boiler #3, the citizen is also concerned that the Commonwealth might have established a RACT emissions limit which was too high. He notes the boiler had been shutdown and that the Commonwealth had established a RACT emissions limit for the boiler using an emissions factor. He maintains that the emissions limit should have been based on CEM or EPA-reference method data. He also maintains that EPA must assure that ERCs are based on the lower of actual or allowable emissions. The citizen concludes by saying that the entire steam generating plant should be capped such that prior actual emissions are discounted for the generation of ERCs, after RACT has been implemented; and that the implementation of RACT should not be allowed to create ERCs, only reductions beyond RACT are allowed for ERC creation.

Response: EPA concurs with the Commonwealth's analyses that the cost of removing NOX by converting Boiler #8 to gas firing, at $5,500 per ton of NOX removed, is higher than the cost which has typically considered to be reasonable when determining RACT controls. The Commonwealth has set out objective requirements for all subject facilities to make a case-by-case RACT proposals in sections 129.91, 129.92, and 129.93 and EPA has approved them as part of the SIP. Trying to ascertain other motives that INDSPEC may have had for the conversion and then taking into account the types of cost savings which the citizen identified is not consistent with an objective approach toward determining RACT.

Given that Boiler #3 was shutdown in 1992, and the absence of any available CEM or EPA-reference method emissions data, EPA believes that the Commonwealth's decision to establish a RACT limit for this boiler based on an emissions factor was reasonable. With respect to the citizen's concerns regarding the possibility of the Company obtaining excessive ERCs, again EPA notes that the Commonwealth's SIP-approved regulations pertaining to ERC generation and creation, found at 25 Pa. Code Chapter 127, sections 127.206 through 127.210, contain provisions which would prevent the granting of excess ERCs. The regulations require all ERCs to be surplus, permanent, quantified, and Federally enforceable. Moreover, under the Pennsylvania SIP, ERCs must also meet the offset requirements of the Commonwealth's new source review program. The calculation of eligible ERCs under the Pennsylvania SIP does not allow for “only on paper credits.” Under 25 Pa. Code Chapter 127, sections 127.206 through 127.210 such calculations take into account the generating source's actual operating history and only actual emission reductions are creditable.

III. Final Action

EPA is approving the revisions to the Pennsylvania SIP submitted by PADEP to establish and require VOC and/or NOX RACT for Allegheny Ludlum Steel Corporations's Vandergrift Plant located in Westmoreland County and INDSPEC Chemical Corporation's Petrolia Plant located in Butler County. EPA is approving these RACT SIP submittals because PADEP established and imposed these RACT requirements in accordance with the criteria set forth in the SIP-approved RACT regulations applicable to these sources. The PADEP has also imposed record keeping, monitoring, and testing requirements on these sources sufficient to determine compliance with the applicable RACT determinations.

IV. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for two named sources.

C. Petitions for Judicial Review

Under section 307(b)(1) of the Clean Air Act, petitions for judicial review of this action must be filed in the United States Court of Appeals for the appropriate circuit by December 18, 2001. Filing a petition for reconsideration by the Administrator of this final rule does not affect the finality of this rule for the purposes of judicial review nor does it extend the time within which a petition for judicial review may be filed, and shall not postpone the effectiveness of such rule or action. This action approving revisions to the Pennsylvania SIP submitted by PADEP to establish and require VOC and/or NOX RACT for Allegheny Ludlum Steel Corporations's Vandergrift Plant located in Westmoreland County and INDSPEC Chemical Corporation's Petrolia Plant located in Butler County may not be challenged later in proceedings to enforce its requirements. (See section 307(b)(2).)

List of Subjects in 40 CFR Part 52

Environmental protection, Air pollution control, Incorporation by reference, Intergovernmental relations, Nitrogen dioxide, Ozone, Reporting and recordkeeping requirements.

Dated: October 3, 2001.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(186) to read as follows:

§ 52.2020 Identification of plan.

* * * * *

(c) * * *

(186) Revisions to the Pennsylvania Regulations, Chapter 129.91 pertaining to NOX RACT, submitted on March 21, 1996, December 7, 1998 and April 9, 1999.

(i) Incorporation by reference.

(A) Letters submitted by the Pennsylvania Department of Environmental Protection transmitting source-specific NOX RACT determinations in the form of plan approvals or operating permits on March 21, 1996, December 7, 1998 and April 9, 1999.

(B) Plan approvals (PA), and Operating permits (OP) for the following sources:

(1) Allegheny Ludlum Steel Corporation, Westmoreland County, OP 65-000-137, effective May 17, 1999, except for the expiration date.

(2) INDSPEC Chemical Corporation, Butler County, PA 10-021, as amended and effective on October 19, 1998 except for Condition 4.

(ii) Additional materials. Other materials submitted by the Commonwealth of Pennsylvania in support of and pertaining to the RACT determinations submitted for the sources listed in paragraph (c)(186)(i)(B) of this section.

[FR Doc. 01-26405 Filed 10-18-01; 8:45 am]

BILLING CODE 6560-50-P